DEPARTMENT OF COMMERCE

National Oceanic and Atmospheric Administration

RIN 0648-XF381

Marine Mammals; File No. 20605

AGENCY: National Marine Fisheries Service (NMFS), National Oceanic and Atmospheric Administration (NOAA), Department of Commerce.

ACTION: Notice; receipt of application.

SUMMARY: Notice is hereby given that Robin Baird, Ph.D., Cascadia Research Collective, 218½ West Fourth Avenue, Olympia, WA 98501, has applied in due form for a permit to conduct research on marine mammals.

DATES: Written, telefaxed, or email comments must be received on or before June 15, 2017.

ADDRESSES: The application and related documents are available for review by selecting “Records Open for Public Comment” from the “Features” box on the Applications and Permits for Protected Species (APPS) home page, https://apps.nmfs.noaa.gov, and then selecting File No. 20605 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant requests a 5-year permit to take marine mammals in the Atlantic and Pacific oceans to study population structure, size, range, movement rates and patterns, habitat use, social organization, diving behavior, diet, disease monitoring, behavior, and reactions to anthropogenic activity. Up to 53 species of cetaceans may be targeted for research including the following endangered, proposed endangered, or threatened species/stocks: blue (Balaenoptera musculus), Bryde's (B. edeni), bowhead (Balaena mysticetus), fin (B. physalus), Cook Inlet beluga (Delphinapterus leucas), Hawaiian insular false killer (Pseudorca crassidens), humpback (Megaptera novaeangliae), North Atlantic right (Eubalaena glacialis), North Pacific right (E. japonica), sei (B. borealis), Southern Resident killer (Orcinus orca), sperm (Physeter macrocephalus), and Western North Pacific gray (Eschrichtius robustus) whales. Researchers would conduct manned and unmanned aerial surveys for counts, observations, photography, photogrammetry, and video of cetaceans. Vessel surveys would be conducted for counts, passive acoustic recording, biological sampling, collection of prey remains, observation, photo-identification, photogrammetry, video, and suction-cup and dart tagging. Eight pinniped species including endangered Hawaiian monk seals (Neomonachus schauinslandi) and Steller sea lions (Eumetopias jubatus) may be harassed incidental to the research. Please see the take tables for numbers of animals requested by species.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 11, 2017.
Julia Harrison,
Chief, Permits and Conservation Division, Office of Protected Resources, National Marine Fisheries Service.

[FR Doc. 2017-09898 Filed 5-15-17; 8:45 am]

BILLING CODE 3510-22-P